DEPARTMENT OF COMMERCE

Patent and Trademark Office

[Docket No.: PTO-P-2023-0003]

Manual of Patent Examining Procedure, Ninth Edition, Revision of July 2022

AGENCY: United States Patent and Trademark Office, Department of Commerce.

ACTION: Notice.

SUMMARY: To provide updates to patent examination policy and procedures in a single source, which will improve access to essential guidance for all stakeholders and help to ensure issuance of robust and reliable patents that promote and protect innovation, the United States Patent and Trademark Office (USPTO or Office) issued a revision of the Ninth Edition of the Manual of Patent Examining Procedure (MPEP), published in February 2023 (July 2022 revision). The MPEP provides patent examiners and the public with a reference work on the practices and procedures relative to the prosecution of patent applications and other proceedings before the USPTO. The MPEP contains instructions to examiners, as well as other material in the nature of information and interpretation, and outlines the current procedures that examiners are required or authorized to follow in the normal examination of patent applications and during other Office proceedings.

ADDRESSES: The USPTO prefers that suggestions for improving the form and content of the MPEP be submitted via email to mpepfeedback@uspto.gov or via the IdeaScale® tool available at https://uspto-mpep.ideascale.com/a/index. Written comments may also be submitted by mail addressed to: Commissioner for Patents, P.O. Box 1450, Alexandria, VA 22313-1450, marked to the attention of Editor, Manual of Patent Examining Procedure.

FOR FURTHER INFORMATION CONTACT: Jeanne Clark, Editor of the MPEP, at Jeanne.Clark@uspto.gov or 571-272-7714; Monique Cole Gary, Patent Examination Policy Advisor, at Monique.Cole@uspto.gov or 571-272-1463; or Kathy Mosser, Patent Examination Policy Advisor, at Kathleen.Mosser@uspto.gov or 571-272-3435.

SUPPLEMENTARY INFORMATION: The USPTO issued a revision to the Ninth Edition of the MPEP, published in February 2023, which provides USPTO patent examiners, applicants, attorneys, agents, representatives of applicants, and other members of the public with a reference work on the practices and procedures relative to the prosecution of patent applications before the USPTO. The MPEP contains instructions to examiners, as well as other material in the nature of information and interpretation, and outlines the current procedures that examiners are required or authorized to follow in the normal examination of patent applications and during other Office proceedings. Although the MPEP does not have the force of law or the force of the rules in 37 CFR, it “is well known to those registered to practice in the [US]PTO and reflects the presumptions under which the [US]PTO operates.” Critikon, Inc. v. Becton Dickinson Vascular Access, Inc., 120 F.3d 1253, 1257 (Fed. Cir. 1997).

In the February 2023 publication of the MPEP revision, sections of chapters 100, 200, 400-1500, 1700, 1800, 2000-2200, 2400, 2500, and 2700-2900 have been updated. The updated sections have a revision indicator of [R-07.2022], meaning these sections have been updated to reflect USPTO patent practice and relevant case law as of July 31, 2022. In addition, Chapter FPC—Form Paragraphs Consolidated, the Foreword, Introduction, Subject Matter Index, and all appendices except Appendix I and Appendix P have been updated. The changes in the February 2023 publication are discussed in the Change Summary for the Ninth Edition, Revision 07.2022. The Change Summary is available in three renditions at https://www.uspto.gov/MPEP. Citation to a section in the current revision of the MPEP should be to “e9 r07.2022,” e.g., MPEP 2163 (e9 r07.2022).

The February 2023 publication of the revision of the Ninth Edition of the MPEP may be viewed or downloaded free of charge from the USPTO website at https://www.uspto.gov/MPEP and is available to search online at https://mpep.uspto.gov. Archived copies of each of the prior revisions and editions of the MPEP continue to be available for reference on the USPTO website at https://www.uspto.gov/web/offices/pac/mpep/old/index.htm.

Katherine K. Vidal,
Under Secretary of Commerce for Intellectual Property and Director of the United States Patent and Trademark Office.

[FR Doc. 2023-04345 Filed 3-2-23; 8:45 am]

BILLING CODE 3510-16-P